DEPARTMENT OF ENERGY

Federal Energy Regulatory Commission

[Docket No. RP03-486-000]

Transcontinental Gas Pipe Line Corporation; Notice of Filing

June 3, 2003.

Take notice that on May 29, 2003, Transcontinental Gas Pipe Line Corporation (Transco), tendered for filing as part of its FERC Gas Tariff, Third Revised Volume No. 1, Third Revised Sheet No. 292, Eighth Revised Sheet No. 296, and Ninth Revised Sheet No. 303. The proposed effective date of the tariff sheets is May 1, 2003.

Transco states that the purpose of the instant filing is to update certain Delivery Point Entitlement (DPE) tariff sheets in accordance with the provisions of section 19.1(f) of the General Terms and Conditions of Transco's Third Revised Volume No. 1 tariff. Transco states that specifically, such tariff sheets have been revised to reflect the increase in capacity associated with the May 1, 2003, in-service date of Phase 1 of the Momentum Expansion Project.

Any person desiring to be heard or to protest said filing should file a motion to intervene or a protest with the Federal Energy Regulatory Commission, 888 First Street, NE., Washington, DC 20426, in accordance with sections 385.214 or 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: June 10, 2003.

Magalie R. Salas,
Secretary.

[FR Doc. 03-14507 Filed 6-9-03; 8:45 am]

BILLING CODE 6717-01-P